DEPARTMENT OF HEALTH AND HUMAN SERVICES

National Institutes of Health

National Heart, Lung, and Blood Institute; Amended Notice of Meeting

Notice is hereby given of a change in the meeting of the National Heart, Lung, and Blood Institute Special emphasis Panel, June 7, 2000, 7 PM to June 8, 2000, 3 PM, Columbia Sheraton, 10207 Wincopin Circle, Columbia, MD, 21044 which was published in the Federal Register on April 2, 2000, 65 FR 24491-24492.

The name of the meeting will be changed to Hematopoietic Stem Cell Biology RFA. The meeting is closed to the public.

Dated: May 12, 2000.
LaVerne Y. Stringfield,
Director, Office of Federal Advisory Committee Policy.

[FR Doc. 00-12905 Filed 5-22-00; 8:45 am]

BILLING CODE 4140-01-M